DEPARTMENT OF THE INTERIOR

Fish and Wildlife Service

[FWS-R1-ES-2010-NXXX; 10120-1112-0000-F2]

Oregon Parks and Recreation Department Habitat Conservation Plan Along the Pacific Coast in Clatsop, Tillamook, Lincoln, Lane, Douglas, Coos, and Curry Counties, OR

AGENCY: Fish and Wildlife Service, Interior.

ACTION: Notice of availability: final environmental impact statement and habitat conservation plan.

SUMMARY: Under the National Environmental Policy Act (NEPA), the U.S. Fish and Wildlife Service (Service) is advising the public of the availability of the final Environmental Impact Statement (FEIS) associated with an application received from the Oregon Parks and Recreation Department (OPRD) for an incidental take permit (permit) pursuant to section 10(a)(1)(B) of the Endangered Species Act of 1973, as amended (ESA). We also announce the availability of the OPRD Habitat Conservation Plan (HCP) as required by section 10(a)(2)(B) of the ESA. OPRD submitted the HCP, as well as a proposed Implementing Agreement (IA), as part of its incidental take permit application. If issued, the permit would authorize incidental take of the federally listed as threatened western snowy plover (Charadrius alexandrinus nivosus) caused by the OPRD and private landowners that engage in activities related to public use and recreation, beach management, and resource management activities along Oregon's coastal shores. The OPRD is requesting a 25-year permit term.

We request comments from the public on the permit application, the HCP, the IA, and the FEIS, all of which are available for review. The Service is furnishing this notice to allow other agencies and the public an opportunity to review and comment on these documents. All comments received will become part of the public record and will be available for review pursuant to section 10(c) of the ESA. For locations to review the documents, please see the Availability of Documents section below.

DATES: Comments must be received from interested parties on or before October 18, 2010. The Service's decision on issuance of the permit will occur no sooner than 30 days after the publication of the Environmental Protection Agency notice of the FEIS in the Federal Register and will be documented in a Record of Decision.

ADDRESSES: All written comments and requests for information should be addressed to: Laura Todd, U.S. Fish and Wildlife Service, Newport Field Office, 2127 SE OSU Drive, Newport, OR 97365-5258; facsimile (541) 867-4551. You may submit comments by postal mail/commercial delivery or by e-mail. Submit comments by e-mail to FW1ORDHCP@fws.gov; in the subject line of the e-mail include the identifier OPRD HCP EIS. Comments and materials received also will be available for public inspection, by appointment, during normal business hours at the above address.

FOR FURTHER INFORMATION CONTACT: Laura Todd at (541) 867-4558 or see ADDRESSES above.

SUPPLEMENTARY INFORMATION:

Availability of Documents

You may obtain copies of the documents for review by contacting Laura Todd (see FOR FURTHER INFORMATION CONTACT); or by making an appointment to view the documents at the above address during normal business hours. You may view or download the HCP and FEIS on the Internet at www.fws.gov/oregonfwo/Species or the HCP from OPRD's Web site at egov.oregon.gov/OPRD/PLANS/osmp_hcp.shtml.

Copies of the HCP and FEIS will be available at the following libraries: Astoria Public Library, 450 Tenth St., Astoria, Oregon 97103; Bandon Public Library, City Hall, Hwy. 101, Bandon, Oregon 97411; Chetco Community Public Library, 405 Alder St., Brookings, Oregon 97415; Coos Bay Public Library, 525 Anderson, Coos Bay, Oregon 97420; Siuslaw Public Library District, 1460 9th St., Florence, Oregon 97439; Garibaldi Branch Library, Garibaldi City Hall, 107 Sixth St., Garibaldi, Oregon 97118; Curry Public Library, 29775 Colvin St., Gold Beach, Oregon 97444; Langlois Public Library, 48234 Hwy. 101, Langlois, Oregon 97450; Driftwood Public Library, 801 SW. Highway 101, Suite 201, Lincoln City, 97367-2720; Manzanita Branch Library, 571 Laneda, Manzanita, Oregon 97130; Newport Public Library, 35 NW. Nye St., Newport, Oregon 97365; Marilyn Potts Guin Library, Hatfield Marine Science Center, Oregon State University, 2030 Marine Science Drive, Newport, OR 97365; South Tillamook Branch Library, 6200 Camp St., Pacific City, OR 97135; Port Orford Public Library, 555 W. 20th St., Port Orford, Oregon 97465; Reedsport Branch Library, 395 Winchester Ave., Reedsport, Oregon 97467; Seaside Public Library, 60 N. Roosevelt Blvd., Seaside, Oregon 97138; Tillamook County Library, 1716 3rd St., Tillamook, Oregon 97141; Waldport Public Library, 460 Hemlock, Waldport, Oregon 97394; Warrenton Community Library, 225 S. Main Ave., Warrenton, Oregon 97146; and the Yachats Public Library, 560 W. 7th St., P.O. Box 817, Yachats, OR 97498.

Background

Section 9 of the ESA (16 U.S.C. 1538) and the implementing regulations prohibit the “take” of fish and wildlife species listed as endangered or threatened. The term “take” is defined under the ESA to mean harass, harm, pursue, hunt, shoot, wound, kill, trap, capture, or collect, or to attempt to engage in any such conduct (16 U.S.C. 1532). “Harm” is defined by Service regulation to include significant habitat modification or degradation where it actually kills or injures listed wildlife by significantly impairing essential behavioral patterns, including breeding, feeding, and sheltering (50 CFR 17.3(c)). However, under limited circumstances, the Service may issue permits to authorize the “incidental take” of listed species. Incidental take is defined by the ESA as take that is incidental to, and not the purpose of, carrying out an otherwise lawful activity. Regulations governing incidental take permits for threatened and endangered species are found at 50 CFR 17.32 and 17.22, respectively.

The OPRD has management responsibility on all Oregon coastal beaches, which extend for approximately 230 miles, for such activities as public use and recreation, beach management conducted by staff, and natural resource management. These activities may result in the incidental take of the threatened Pacific Coast population of the western snowy plover (Charadrius alexandrinus nivosus). As a result, the OPRD has prepared a 25-year HCP that addresses the incidental take of the western snowy plover. The HCP forms the basis of OPRD's permit application that was submitted to the Service and is the proposed action in the Service's FEIS.

Activities that the OPRD is proposing for permit coverage, and for which minimization and mitigation measures are described in the HCP include:

1. Public Use

a. Dog Exercising

b. Driving

c. Recreational Activities

d. Non-Motorized Vehicle Use

e. Other Dry Sand Activities

2. Beach Management

a. Public Safety

b. Law Enforcement

c. Boat and Marine Mammal Strandings

3. Natural Resource Management

a. Snowy Plover Management

b. Other Habitat Restoration

Public Involvement

The Service formally initiated an environmental review of the project through publication of a Notice of Intent to prepare an Environmental Impact Statement in the Federal Register on March 20, 2003 (68 FR 13720). That notice also announced a public scoping period through April 28, 2003, during which interested parties were invited to provide written comments expressing their issues or concerns relating to the proposal. In a letter jointly signed by the OPRD and the Service, agencies and the public were notified of the opportunity to comment and the dates and locations of public meetings. The public meetings were also posted on the OPRD's Web site. In March 2003, four public meetings were held in Coos Bay, Newport, Tillamook, and Portland. Utilizing the public scoping comments, the Service prepared a draft EIS to analyze the effects of the alternatives on the human environment. The draft EIS was released for a 60-day public comment on November 5, 2007, and the comment period was extended for an additional 15 days on February 26, 2008. The official comment period ended on March 12, 2008.

Public Review

Copies of the final FEIS, HCP, and IA are available for review (see Availability of Documents above). Any comments we receive will become part of the administrative record and may be available to the public.

Before including your address, phone number, e-mail address, or other personal identifying information in your comment, you should be aware that your entire comment—including your personal identifying information—may be made publicly available at any time. If you wish us to withhold your name and/or address, you must state this prominently at the beginning of your comment. While you can ask us in your comment to withhold your personal identifying information from public review, we cannot guarantee that we will be able to do so. We will honor your request to withhold your personal information to the extent allowable by law.

This notice is provided pursuant to section 10(c) of the ESA and Service regulations for implementing NEPA, as amended (40 CFR 1506.6). We will evaluate the application, associated documents, and comments submitted to determine whether the application meets the requirements of section 10(a) of the ESA. A permit decision will be made no sooner than 30 days after the publication of the EPA's FEIS notice in the Federal Register and completion of the Record of Decision. If we determine that all requirements are met, we will issue an incidental take permit under section 10(a)(1)(B) of the ESA to the OPRD for take of the western snowy plover, incidental to otherwise lawful activities in accordance with the HCP, the IA, and the permit.

Dated: August 11, 2010.
Carolyn A. Bohan,
Acting Deputy Regional Director, U.S. Fish and Wildlife Service, Region 1, Portland, Oregon.

[FR Doc. 2010-23108 Filed 9-16-10; 8:45 am]

BILLING CODE 4310-55-P